DEPARTMENT OF ENERGY

Federal Energy Regulatory Commission

[Project No. 3030-019]

Antrim County; Notice of Intent To Prepare an Environmental Assessment and Notice of Scoping Meeting and Environmental Site Review and Soliciting Scoping Comments

Take notice that the following hydroelectric application has been filed with the Commission and is available for public inspection.

a. Type of Application: Subsequent license.

b. Project No.: P-3030-019.

c. Date filed: December 21, 2012.

d. Applicant: Antrim County.

e. Name of Project: Elk Rapids Hydroelectric Project.

f. Location: On the Elk River in the village of Elk Rapids in Antrim, Grand Traverse, and Kalkaska counties, Michigan. The project does not affect federal lands.

g. Filed Pursuant to: Federal Power Act 16 U.S.C. 791 (a)—825(r).

h. Applicant Contact: William Stockhausen, Elk Rapids Hydroelectric Power, LLC, 218 West Dunlap Street, Northville, MI 48167; or at (248) 349-2833.

i. FERC Contact: Lee Emery at (202) 502-8379 or by email at lee.emery@ferc.gov.

j. Deadline for filing scoping comments: October 21, 2013.

The Commission strongly encourages electronic filing. Please file scoping comments using the Commission's eFiling system at http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov, (866) 208-3676 (toll free), or (202) 502-8650(TTY). In lieu of electronic filing, please send a paper copy to: Secretary, Federal Energy Regulatory Commission, 888 First Street, NE., Washington, DC 20426. The first page of any filing should include docket number P-3030-019.

The Commission's Rules of Practice and Procedure require all interveners filing documents with the Commission to serve a copy of that document on each person on the official service list for the project. Further, if an intervener files comments or documents with the Commission relating to the merits of an issue that may affect the responsibilities of a particular resource agency, they must also serve a copy of the document on that resource agency.

k. This application is not ready for environmental analysis at this time.

l. The existing Elk Rapids Hydroelectric Project is located on the Elk River in Antrim, Grand Traverse, and Kalkaska counties, Michigan. The project consists of: (1) two impoundments, the 2,560-acre Skegemog Lake and the 7,730-acre Elk Lake; (2) a 121-foot-long, 52-foot-high, 26-foot-wide existing powerhouse that spans the main channel of the Elk River, with an operating head of 10.5 feet, (3) a 24-foot-high, one-story superstructure; (4) a substructure that includes the intakes and turbine pits, which are about 13-foot-high; (5) a 13-foot-high concrete foundation located below the substructure that incorporates the draft tubes; (6) four intake bays, each 22-feet wide with sliding head gates at the powerhouse wall; (7) two Francis turbines, each with an installed capacity of 350 kilowatts; (8) intake trash racks having a 1.75-inch clear bar spacing; (9) a 14-foot wide overflow spillway located about 400 feet south of the powerhouse, which consists of two adjacent concrete drop structures, each with 7-foot-long stop logs to control the lake level, with each drop structure leading to a 62.5-foot-long by 4.5-foot diameter culvert that passes under Dexter Street; (10) two turbine gates used to spill excess water through the two intake bays that do not contain turbines and generating units; (11) a 4,160-kilovolt (kV) line that extends about 30 feet from the powerhouse to a 20-foot by 30-foot substation enclosure; (12) a 50-foot-long underground 12.5-kV transmission line to connect the project substation to the local utility distribution lines; and (13) other appurtenant facilities.

The project operates in a run-of-river mode and the water surface elevation is maintained at 590.8 feet Elk Rapids dam gage datum from April 15 through November 1 and at 590.2 feet Elk Rapids dam gage datum from November 1 through April 15. The average annual generation is about 2,422 megawatt-hours.

Antrim County is not proposing any new construction or any changes in existing project operations.

m. A copy of the application is available for review at the Commission in the Public Reference Room or may be viewed on the Commission's Web site at http://www.ferc.gov using the “eLibrary” link. Enter the docket number excluding the last three digits in the docket number field to access the document. For assistance, contact FERC Online Support. A copy is also available for inspection and reproduction at the address in item h above.

You may also register online at http://www.ferc.gov/docs-filing/esubscription.asp to be notified via email of new filings and issuances related to this or other pending projects. For assistance, contact FERC Online Support.

n. Scoping Process.The Commission intends to prepare an environmental assessment (EA) on the project in accordance with the National Environmental Policy Act. The EA will consider both site-specific and cumulative environmental impacts and reasonable alternatives to the proposed action.

Scoping Meetings

FERC staff will conduct one agency scoping meeting and one public meeting. The agency scoping meeting will focus on resource agency and non-governmental organization (NGO) concerns, while the public scoping meeting is primarily for public input. All interested individuals, organizations, and agencies are invited to attend one or both of the meetings, and to assist the staff in identifying the scope of the environmental issues that should be analyzed in the EA. The times and locations of these meetings are as follows:

Agency Scoping Meeting

Date: Thursday, September 19, 2013.

Time: 10:00 a.m. (local time).

Place: Elk Rapids Governmental Center, Village Council Chamber.

Address: 315 Bridge Street, Elk Rapids, Michigan 49629.

Public Scoping Meeting

Date: Thursday, September 19, 2013.

Time: 7:00 p.m. (local time).

Place: Elk Rapids Police Department, Old Council Chamber.

Address: 321 Bridge Street, Elk Rapids, Michigan 49629.

Copies of the Scoping Document (SD1) outlining the subject areas to be addressed in the EA were distributed to the parties on the Commission's mailing list. Copies of SD1 will be available at the scoping meeting or may be viewed on the web at http://www.ferc.gov using the “eLibrary” link (see item m above).

Environmental Site Review

The applicant and FERC staff will conduct a project Environmental Site Review beginning at 1:00 p.m. (local time) on September 19, 2013. All interested individuals, organizations, and agencies are invited to attend. All participants should meet at the south entrance to the Elk River Project powerhouse located on the west side of Dexter Street, between Dam Road and Harbor Drive, in Elk Rapids, Michigan. All participants are responsible for their own transportation to the site. Anyone with questions about the Environmental Site Review should contact Mr. Mark Stone of Antrim County at (231) 533-6265.

Objectives

At the scoping meetings, the staff will: (1) Summarize the environmental issues tentatively identified for analysis in the EA; (2) solicit from the meeting participants all available information, especially quantifiable data, on the resources at issue; (3) encourage statements from experts and the public on issues that should be analyzed in the EA, including viewpoints in opposition to, or in support of, the staff's preliminary views; (4) determine the resource issues to be addressed in the EA; and (5) identify those issues that require a detailed analysis, as well as those issues that do not require a detailed analysis.

Procedures

The meetings are recorded by a stenographer and become part of the formal record of the Commission proceeding on the project.

Individuals, organizations, and agencies with environmental expertise and concerns are encouraged to attend the meetings and to assist the staff in defining and clarifying the issues to be addressed in the EA.

Dated: August 29, 2013.
Kimberly D. Bose,
Secretary.

[FR Doc. 2013-21667 Filed 9-5-13; 8:45 am]

BILLING CODE 6717-01-P